DEPARTMENT OF HOMELAND SECURITY

Coast Guard

33 CFR Part 117

[Docket No. USCG-2016-1043]

Drawbridge Operation Regulation; Columbia River, Kennewick, WA

AGENCY: Coast Guard, DHS.

ACTION: Notice of deviation from drawbridge regulations.

SUMMARY: The Coast Guard has issued a temporary deviation from the operating schedule that governs the Burlington Northern Santa Fe (BNSF) Railroad Bridge (Kennewick-Pasco Railroad Bridge) across the Columbia River, mile 328, at Kennewick, WA. This deviation is necessary to accommodate maintenance to replace a lift motor and install span controls. This deviation allows the bridge to remain in the closed position during installation activities.

DATES: This deviation is effective from 8 a.m. on January 9, 2017 to 8 p.m. on January 20, 2017.

ADDRESSES: The docket for this deviation, USCG-2016-1043 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: BNSF requested that the Burlington Northern Santa Fe (BNSF) Railroad Bridge (Kennewick-Pasco Railroad Bridge) across the Columbia River, mile 328, remain closed to vessel traffic to replace a lift motor and install span controls. The Kennewick-Pasco Railroad Bridge provides 18 feet of vertical clearance above Columbia River Datum 0.0 while in the closed position. The current operations for the bridge is in 33 CFR 117.1035. This deviation allows the span of this bridge to remain in the closed-to-navigation position, and need not open for maritime traffic from 8 a.m. on January 9, 2017 to 8 p.m. on January 20, 2017. These dates coincide with the U.S. Army Corps of Engineers schedule closures of the Columbia River navigation locks. The bridge shall operate in accordance to 33 CFR 117.1035 at all other times. Waterway usage on this part of the Columbia River includes vessels ranging from commercial tug and tow vessels to recreational pleasure craft including cabin cruisers and sailing vessels.

Vessels able to pass through the bridge in the closed position may do so at anytime. During the first week of the installation period, the span of the bridge will not be able to open for maritime emergencies; however, the span may be opened during the second week of installation work for maritime emergencies, but any emergency opening will necessitate a time extension to the approved dates. No immediate alternate route for vessels to pass is available on this part of the river.

The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: December 7, 2016.
Steven M. Fischer,
Bridge Administrator, Thirteenth Coast Guard District.

[FR Doc. 2016-29809 Filed 12-12-16; 8:45 am]

BILLING CODE 9110-04-P